DEPARTMENT OF TRANSPORTATION

Federal Aviation Administration

14 CFR Part 97

[Docket No. 30817; Amdt. No. 3456]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 20, 2011. The compliance date for each SIAP, associated Takeoff Minimums, and ODP is specified in the amendatory provisions.

The incorporation by reference of certain publications listed in the regulations is approved by the Director of the Federal Register as of December 20, 2011.

ADDRESSES: Availability of matters incorporated by reference in the amendment is as follows:

For examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call (202) 741-6030, or go to: http://www.archives.gov/federal_register/code_of_federal_regulations/ibr_locations.html.

Availability— All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on December 9, 2011.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 12 JAN 2012

San Francisco, CA, San Francisco Intl, Takeoff Minimums and Obstacle DP, Amdt 7

New Haven, CT, Tweed-New Haven, Takeoff Minimums and Obstacle DP, Amdt 6

Fort Myers, FL Southwest Florida Intl, VOR/DME OR TACAN RWY 24, Amdt 2A

Nahunta, GA, Brantley County, Takeoff Minimums and Obstacle DP, Orig

Independence, KS, Independence Muni, ILS OR LOC RWY 35, Amdt 1A

Olathe, KS, Johnson County Executive, LOC RWY 36, Amdt 1B

Olathe, KS, Johnson County Executive, LOC/DME RWY 18, Amdt 7D

Boston, MA, General Edward Lawrence Logan Intl, RNAV (GPS) RWY 15R, Amdt 1A

Mooresville, NC, Lake Norman Airpark, RNAV (GPS) RWY 14, Orig-B

Hastings, NE., Hastings Muni, RNAV (GPS) RWY 4, Orig

Hastings, NE., Hastings Muni, RNAV (GPS) RWY 32, Orig

Hastings, NE., Hastings Muni, VOR RWY 32, Amdt 14

Portland, OR, Portland Intl, ILS OR LOC RWY 10R, ILS RWY 10R (SA CAT I), ILS RWY 10R (CAT II), ILS RWY 10R (CAT III), Amdt 34

Greenville, SC, Greenville Downtown, Takeoff Minimums and Obstacle DP, Amdt 6

Fort Hood/Killeen, TX, Robert Gray AAF, RADAR-2, Orig

Effective 9 FEB 2012

Anchorage, AK, Merrill Field, RNAV (GPS)-A, Amdt 1

Anchorage, AK, Merrill Field, Takeoff Minimums and Obstacle DP, Amdt 1

Anchorage, AK, Ted Stevens Anchorage Intl, ILS OR LOC/DME RWY 7L, ILS RWY 7L (SA CAT I), ILS RWY 7L (CAT II), Amdt 2

Anchorage, AK, Ted Stevens Anchorage Intl, ILS OR LOC/DME RWY 7R, ILS RWY 7R (SA CAT I), ILS RWY 7R (CAT II), ILS RWY 7R (CAT III), Amdt 2

Anchorage, AK, Ted Stevens Anchorage Intl, ILS RWY 15, Amdt 5

Anchorage, AK, Ted Stevens Anchorage Intl, RNAV (GPS) RWY 7L, Amdt 2

Anchorage, AK, Ted Stevens Anchorage Intl, RNAV (GPS) RWY 7R, Amdt 4

Anchorage, AK, Ted Stevens Anchorage Intl, RNAV (GPS) RWY 15, Amdt 2

Anchorage, AK, Ted Stevens Anchorage Intl, Takeoff Minimum and Obstacle DP, Amdt 7

Anchorage, AK, Ted Stevens Anchorage Intl, VOR RWY 7R, Amdt 13A, CANCELLED

Big Lake, AK, Big Lake, RNAV (GPS) RWY 7, Amdt 1

Big Lake, AK, Big Lake, RNAV (GPS) RWY 25, Amdt 1

Big Lake, AK, Big Lake, Takeoff Minimums and Obstacle DP, Amdt 2

Big Lake, AK, Big Lake, VOR RWY 7, Amdt 7

Galena, AK, Edward G. Pitka Sr., VOR/DME RWY 7, Amdt 7B

Galena, AK, Edward G. Pitka Sr., VOR/DME RWY 25, Amdt 10B

Kenai, AK, Kenai Muni, ILS OR LOC RWY 19R, Amdt 4

Kenai, AK, Kenai Muni, RNAV (GPS) RWY 1L, Amdt 2

Kenai, AK, Kenai Muni, RNAV (GPS) RWY 19R, Amdt 2

Kenai, AK, Kenai Muni, VOR RWY 19R, Amdt 19

Kenai, AK, Kenai Muni, VOR/DME RWY 1L, Amdt 8

Kodiak, AK, Kodiak, ILS OR LOC/DME Y RWY 25, Amdt 2

Kodiak, AK, Kodiak, VOR RWY 25, Amdt 2

McGrath, AK, McGrath, VOR/DME-C, Amdt 2

Middleton Island, AK, Middleton Island, RNAV (GPS) RWY 1, Amdt 1

Middleton Island, AK, Middleton Island, RNAV (GPS) RWY 19, Amdt 1

Petersburg, AK, Petersburg James A. Johnson, GPS-B, Orig, CANCELLED

Petersburg, AK, Petersburg James A. Johnson, LDA/DME-D, Amdt 6

Petersburg, AK, Petersburg James A. Johnson, RNAV (GPS)-B, Orig

Petersburg, AK, Petersburg James A. Johnson, Takeoff Minimums and Obstacle DP, Amdt 5

Petersburg, AK, Petersburg James A. Johnson, ZARUT ONE Graphic DP

Soldotna, AK, Soldotna, NDB RWY 7, Amdt 2

Soldotna, AK, Soldotna, NDB RWY 25, Amdt 3

Soldotna, AK, Soldotna, VOR-A, Amdt 7

Valdez, AK, Valdez Pioneer Field, JMAAL ONE Graphic DP

Valdez, AK, Valdez Pioneer Field, LDA/DME-H, Amdt 1

Valdez, AK, Valdez Pioneer Field, Takeoff Minimums and Obstacle DP, Amdt 6

Wasilla, AK, Wasilla Takeoff Minimums and Obstacle DP, Amdt 1

Anniston, AL Anniston Rgnl, ILS OR LOC RWY 5, Amdt 3B

Anniston, AL Anniston Rgnl, NDB RWY 5, Amdt 4B

Anniston, AL Anniston Rgnl, RNAV (GPS) RWY 5, Amdt 1A

Anniston, AL Anniston Rgnl, RNAV (GPS) Y RWY 23, Amdt 1A

Anniston, AL Anniston Rgnl, RNAV (GPS) Z RWY 23, Orig-A

Anniston, AL Anniston Rgnl, Takeoff Minimums and Obstacle DP, Amdt 6A

Nashville, AR, Howard County, RNAV (GPS) RWY 1, Orig

Nashville, AR, Howard County, RNAV (GPS) RWY 19, Orig

Nashville, AR, Howard County, Takeoff Minimums and Obstacle DP, Orig

Chinle, AZ, Chinle Muni, Takeoff Minimums and Obstacle DP, Orig

Douglas Bisbee, AZ, Bisbee Douglas Intl, Takeoff Minimums and Obstacle DP, Amdt 1

Los Angeles, CA, Los Angeles Intl, ILS OR LOC RWY 25R, Amdt 17A

Fort Collins/Loveland, CO, Fort Collins-Loveland Muni, ILS OR LOC RWY 33, Amdt 6A

Leesburg, FL, Leesburg Intl, RNAV (GPS) RWY 13, Amdt 2A

Clinton, IA, Clinton Muni, ILS OR LOC RWY 3, Amdt 5

Independence, IA, Independence Muni, Takeoff Minimums and Obstacle DP, Amdt 5

Driggs, ID, Driggs-Reed Memorial, GPS-A, Orig-C, CANCELLED

Driggs, ID, Driggs-Reed Memorial, RNAV (GPS)-A, Orig

Paris, IL, Edgar County, NDB RWY 27, Amdt 10, CANCELLED

Olathe, KS, New Century Aircenter, VOR-A, Amdt 6B, CANCELLED

Scott City, KS, Scott City Muni, Takeoff Minimums and Obstacle DP, Orig

Grand Haven MI, Grand Haven Memorial Airpark, Takeoff Minimums and Obstacle DP, Amdt 5

Cook, MN, Cook Muni, Takeoff Minimums and Obstacle DP, Amdt 1

Ely, MN, Ely Muni, Takeoff Minimums and Obstacle DP, Amdt 3

Aurora, MO, Jerry Sumners Sr Aurora Muni, GPS RWY 36, Orig, CANCELLED

Aurora, MO, Jerry Sumners Sr Aurora Muni, RNAV (GPS) RWY 18, Orig

Aurora, MO, Jerry Sumners Sr Aurora Muni, RNAV (GPS) RWY 36, Orig

Branson West, MO, Branson West Muni-Emerson Field, RNAV (GPS) RWY 3, Orig

Branson West, MO, Branson West Muni-Emerson Field, RNAV (GPS) RWY 21, Orig

Farmington, MO, Farmington Rgnl, VOR/DME-A, Orig-B

Jackson, MS, Hawkins Field, ILS OR LOC RWY 16, Amdt 5A

West Yellowstone, MT, Yellowstone, Takeoff Minimums and Obstacle DP, Amdt 2

West Yellowstone, MT, Yellowstone, TARGY ONE Graphic DP

Hickory, NC, Hickory Rgnl, HICKORY THREE Graphic DP

Northwood, ND, Northwood Muni-Vince Field, Takeoff Minimums and Obstacle DP, Orig

Zelienople, PA, Zelienople Muni, RNAV (GPS) RWY 17, Orig-A

Hohenwald, TN, John A. Baker Fld, NDB RWY 2, Orig-B

Hohenwald, TN, John A. Baker Fld, RNAV (GPS) RWY 2, Amdt 1

Seymour, TX, Seymour Muni, Takeoff Minimums and Obstacle DP, Orig

Norfolk, VA, Chesapeake Rgnl, Takeoff Minimums and Obstacle DP, Amdt 3

La Crosse, WI, La Crosse Muni, ILS OR LOC RWY 18, Amdt 20

Rescinded: On December 12, 2011 (76 FR 77112), the FAA published an Amendment in Docket No. 30815, Amdt No. 3454 to Part 97 of the Federal Aviation Regulations under section 97.33. The following four entries, effective December 15, 2011, are hereby rescinded in their entirety:

Rota Island-North Mariana Island, CQ, Rota Intl, GPS RWY 9, Orig-C, CANCELLED

Rota Island-North Mariana Island, CQ, Rota Intl, GPS RWY 27, Orig-C, CANCELLED

Rota Island-North Mariana Island, CQ, Rota Intl, RNAV (GPS) RWY 9, Orig

Rota Island-North Mariana Island, CQ, Rota Intl, RNAV (GPS) RWY 27, Orig

[FR Doc. 2011-32506 Filed 12-19-11; 8:45 am]

BILLING CODE 4910-13-P